DEPARTMENT OF THE INTERIOR

Bureau of Land Management

[NM-930-1430-ET; NMNM 103446]

Withdrawal of National Forest System Land for Guadalupe Cave Resource Protection Area; New Mexico; Correction

AGENCY: Bureau of Land Management, Interior.

ACTION: Correction.

SUMMARY: This action corrects an error in the land description published as FR Doc. 01-1817 published in the Federal Register issue of January 22, 2001, for Public Land Order No. 7479. Sections 24 and 25 of T. 25 S., R. 22 E., should not have been included in the legal description.

1. On page 6663, column 2, lines 23 from the top which reads “Sec. 20, SE¼SW¼ and SE¼; secs. 21 to” is hereby corrected to read “Sec. 20, SE¼SW¼ and SE¼;

2. On page 6663, column 2, lines 24 from the top which reads “29, inclusive;” is hereby corrected to read “Secs. 21, 22, 23, 26, 27, 28, and 29;”

Dated: March 22, 2001.
Carsten F. Goff,
Deputy State Director.

[FR Doc. 01-7802 Filed 3-28-01; 8:45 am]

BILLING CODE 4310-FB-P